NATIONAL AERONAUTICS AND SPACE ADMINISTRATION

[Notice (01-082)]

NASA Advisory Council (NAC), Space Science Advisory Committee (SScAC), Astronomical Search for Origins and Planetary Systems (ORIGINS); Subcommittee Meeting.

AGENCY: National Aeronautics and Space Administration.

ACTION: Notice of meeting.

SUMMARY: In accordance with the Federal Advisory Committee Act, Pub. L. 92-463, as amended, the National Aeronautics and Space Administration announces a forthcoming meeting of the NASA Advisory Council, Space Science Advisory Committee, Astronomical Search for Origins Planetary Systems Subcommittee.

DATES: Wednesday, July 11, 2001, 8:30 a.m. to 5 p.m.; Thursday, July 12, 2001, 8 a.m. to 5 p.m.; Friday, July 13, 2001, 8 a.m. to 12 noon.

ADDRESSES: National Aeronautics and Space Administration, Conference Room 6H46, 300 E Street, SW., Washington, DC 20546.

FOR FURTHER INFORMATION CONTACT: Dr. Anne L. Kinney, Code S, National Aeronautics and Space Administration, Washington, DC 20546, (202) 358-2150.

SUPPLEMENTARY INFORMATION: The meeting will be open to the public up to the capacity of the room. The agenda for the meeting includes the following topics:

—Space Interferometry Update

—Next Generation Space Telescope Update

—Keck Update

—Education and Public Outreach

It is imperative that the meeting be held on these dates to accommodate the scheduling priorities of the key participants. Visitors will be requested to sign a visitor's register.

Dated: June 25, 2001.
Beth M. McCormick,
Advisory Committee Management Officer, National Aeronautics and Space Administration.

[FR Doc. 01-16449 Filed 6-28-01; 8:45 am]

BILLING CODE 7510-01-P